DEPARTMENT OF TRANSPORTATION

Federal Aviation Administration

14 CFR Part 71

[Docket No. FAA-2013-0948; Airspace Docket No. 13-ASW-25]

Amendment of Class D and Class E Airspace; Lake Charles, LA

AGENCY: Federal Aviation Administration (FAA), DOT.

ACTION: Final rule, technical amendment.

SUMMARY: This action amends Class D and Class E airspace within the Lake Charles, LA, area by updating the geographic coordinates for Lake Charles Regional Airport, and the airport name and geographic coordinates for Chennault International Airport, formerly known as Chennault Industrial Airpark. This action does not change the boundaries or operating requirements of the airspace.

DATES: Effective date: 0901 UTC, February 6, 2014. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

The Rule

This action amends Title 14 Code of Federal Regulations (14 CFR) Part 71 by adjusting the geographic coordinates, within the Class D and Class E airspace areas, of Lake Charles Regional Airport, Lake Charles, LA, and Chennault International Airport, formally known as Chennault Industrial Airpark, Lake Charles, LA, to coincide with the FAA's aeronautical database. An administrative correction also is made to the spelling of the Southland Field, Sulphur, LA, navigation aid from Sulphy NDB to Sulphur NDB. This is an administrative change and does not affect the boundaries, altitudes, or operating requirements of the airspace, therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Lake Charles, LA area.

List of Subjects in 14 CFR Part 71

Airspace, Incorporation by reference, Navigation (air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 5000 Class D Airspace.

* * * * *

ASW LA D Lake Charles, LA [Amended]

Lake Charles Regional Airport, LA

(Lat. 30°07′34″ N., long. 93°13′24″ W.)

Lake Charles VORTAC

(Lat. 30°08′29″ N., long. 93°06′20″ W.)

That airspace extending upward from the surface to and including 2,500 feet MSL within a 5-mile radius of Lake Charles Regional Airport and within 1.3 miles each side of the 256° radial of the Lake Charles VORTAC extending from the 5-mile radius to 5.5 miles east of the airport. This Class D airspace area is effective during the specific dates and times established in advance by a Notice to Airmen. The effective date and time will thereafter be continuously published in the Airport/Facility Directory.

ASW LA D Lake Charles, Chennault International Airport, LA [Amended]

Lake Charles, Chennault International Airport, LA

(Lat. 30°12′38″ N., long. 93°08′36″ W.)

That airspace extending upward from the surface to and including 2,500 feet MSL within a 4.5-mile radius of Chennault International Airport, excluding that airspace within the Lake Charles Regional Airport, LA, Class D airspace area. This Class D airspace area is effective during the specific dates and times established in advance by a Notice to Airmen. The effective date and time will thereafter be continuously published in the Airport/Facility Directory.

Paragraph 6002 Class E Airspace Areas Designated as a Surface Area.

* * * * *

ASW LA E2 Lake Charles, LA [Amended]

Lake Charles Regional Airport, LA

(Lat. 30°07′34″ N., long. 93°13′24″ W.)

Lake Charles VORTAC

(Lat. 30°08′29″ N., long. 93°06′20″ W.)

Within a 5-mile radius of Lake Charles Regional Airport and within 1.3 miles each side of the 256° radial of the Lake Charles VORTAC extending from the 5-mile radius to 5.5 miles east of the airport. This Class E airspace area is effective during the specific dates and times established in advance by a Notice to Airmen. The effective date and time will thereafter be continuously published in the Airport/Facility Directory.

Paragraph 6005 Class E Airspace Areas Extending Upward from 700 feet or More Above the Surface of the Earth.

* * * * *

ASW LA E5 Lake Charles, LA [Amended]

Lake Charles Regional Airport, LA

(Lat. 30°07′34″ N., long. 93°13′24″ W.)

Lake Charles, Chennault International Airport, LA

(Lat. 30°12′38″ N., long. 93°08′36″ W.)

Sulphur, Southland Field, LA

(Lat. 30°07′53″ N., long. 93°22′34″ W.)

Sulphur NDB

(Lat. 30°11′55″ N., long. 93°25′14″ W.)

That airspace extending upward from 700 feet above the surface within a 7.5-mile radius of Lake Charles Regional Airport, and within a 7-mile radius of Chennault International Airport, and within 3.5 miles each side of the 155° bearing from Chennault International Airport extending from the 7-mile radius to 16.7 miles southeast of the airport, and within a 6.5-mile radius of Southland Field, and within 2.5 miles each side of the 326° bearing from the Sulphur NDB extending from the 6.5-mile radius of Southland Field to 7.5 miles northwest of the airport.

Issued in Fort Worth, Texas, on November 25, 2013.
David P. Medina,
Manager Operations Support Group, ATO Central Service Center.

[FR Doc. 2013-29214 Filed 12-9-13; 8:45 am]

BILLING CODE 4910-13-P